DEPARTMENT OF JUSTICE

Notice of Lodging of Consent Decree Pursuant to Comprehensive Environmental Response, Compensation, and Liability Act

Notice is hereby given that on June 22, 2004, a proposed Consent Decree in United States v. Holyoke Water Power Company, et al., Civil Action No. 04-30119-MAP, was lodged with the United States District Court for the District of Massachusetts.

The proposed Consent Decree will settle the United States' natural resource damage claims under the Comprehensive Environmental Response, Compensation, and Liability Act (“CERCLA”), 42 U.S.C. 9601 et seq., on behalf of the National Oceanic and Atmospheric Administration (“NOAA”) and the Department of the Interior (“DOI”) (“Federal Trustees”) against Holyoke Water Power Company (“Holyoke Water Power”) and the City of Holyoke Gas & Electric Department (“HG&E”) (“Settling Defendants”) relating to the Holyoke Gas Tar Deposits and former Holyoke Gas Works (together, the “Site”), Massachusetts priority disposal sites, located in and around Holyoke, Massachusetts.

Pursuant to the Consent Decree, the Settling Defendants will pay $500,000 as natural resource damages to the Federal Trustees and to the Executive Office of Environmental Affairs of the Commonwealth of Massachusetts (together, the “Trustees”). Of this amount, $155,000 will be utilized to reimburse, in part, the Trustees' assessment costs and $345,000 will be utilized to carry out restoration projects.

The Department of Justice will receive for a period of thirty (30) days from the date of this publication comments relating to the proposed Consent Decree. Comments should be addressed to the Assistant Attorney General of the Environment and Natural Resources Division, Department of Justice, Washington, DC 20530, and should refer to United States v. Holyoke Water Power Company, et al., Civil Action No. 04-30119-MAP, D.J. Ref. 90-11-3-1455.

The proposed Consent Decree may be examined at the Office of the United States Attorney, District of Massachusetts, 1550 Main Street, U.S. Courthouse, Room 310, Springfield, MA 01103. During the public comment period, the proposed Consent Decree may also be examined on the following Department of Justice Web site, http://www.usdoj.gov/enrd/open.html. A copy of the proposed Consent Decree may be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. If requesting a copy of the proposed Consent Decree, please so note and enclose a check in the amount of $8.50 (25 cent per page reproduction cost) payable to the U.S. Treasury.

Ronald G. Gluck,
Assistant Chief, Environmental Enforcement Section, Environment and Natural Resources Division.

[FR Doc. 04-14890 Filed 6-30-04; 8:45 am]

BILLING CODE 4410-15-M